DEPARTMENT OF TRANSPORTATION

Federal Transit Administration

[FTA Docket No. FTA-2024-0013]

National Transit Database Reporting Changes and Clarifications for Report Years 2025 and 2026

AGENCY: Federal Transit Administration (FTA), U.S. Department of Transportation (DOT).

ACTION: Notice, reopening of comment period.

SUMMARY: The Federal Transit Administration (FTA) is reopening the comment period for the Federal Register notice regarding FTA's National Transit Database reporting changes and clarifications, which was published on October 31, 2024, with the original comment period closing on December 30, 2024.

DATES: The comment period for the document published October 31, 2024 at 89 FR 86907 is reopened. Comments should be filed by January 29, 2025. FTA will consider comments received after that date to the extent practicable.

ADDRESSES: You may send comments, identified by docket number FTA-2004-0013, by any of the following methods:

• Federal eRulemaking Portal: Go to https://www.regulations.gov and follow the online instructions for submitting comments.

• Mail: Send comments to Docket Management Facility; U.S. Department of Transportation, 1200 New Jersey Avenue SE, West Building Ground Floor, Room W12-140, Washington, DC 20590-0001.

• Hand Delivery or Courier: West Building Ground Floor, Room W12-140, 1200 New Jersey Ave. SE, between 9:00 a.m. and 5:00 p.m. ET, Monday through Friday, except Federal holidays.

• Fax: Fax comments to Docket Management Facility, U.S. Department of Transportation, at (202) 493-2251.

Instructions: You must include the agency name (Federal Transit Administration) and Docket Number (FTA-2024-0013) for this notice, at the beginning of your comments. If sent by mail, submit two copies of your comments.

Electronic Access and Filing: This document and all comments received may be viewed online through the Federal eRulemaking portal at https://www.regulations.gov or at the street address listed above. Electronic submission, retrieval help, and guidelines are available on the Federal eRulemaking portal website. The website is available 24 hours each day, 365 days a year. Please follow the instructions. An electronic copy of this document may also be downloaded from the Office of the Federal Register's home page at https://www.federalregister.gov.

Privacy Act: Except as provided below, all comments received into the docket will be made public in their entirety. The comments will be searchable by the name of the individual submitting the comment (or signing the comment, if submitted on behalf of an association, business, labor union, etc.) You should not include information in your comment that you do not want to be made public. You may review DOT's complete Privacy Act Statement in the Federal Register published on April 11, 2000 (65 FR 19477) or at https://www.transportation.gov/ privacy.

FOR FURTHER INFORMATION CONTACT: For program matters, contact Chelsea Champlin, National Transit Database Program Manager, FTA Office of Budget and Policy, 202-366-1651, Chelsea.champlin@dot.gov.

SUPPLEMENTARY INFORMATION: FTA's Office of Budget and Policy is reopening the comment period for the Federal Register notice on National Transit Database Reporting Changes and Clarifications, originally published on October 31, 2024 (89 FR 86907). Given the complex nature of these reporting requirements and its impact on NTD reporting agencies, it is essential that transit agencies and all affected parties have sufficient time to review these proposals and comment on them if so desired. The extension is supported by FTA's Transit Advisory Committee for Safety and FTA's Office of Transit Safety, as the notice contains proposed changes that impact safety and security reporting as well. In support of public transportation safety, in light of the comment period coinciding with the end-of-year holidays, and to allow for more input on the implementation of these reporting changes, FTA believes offering the standard 30-day extension of time is justified and is reopening the comment period until January 29, 2025.

Veronica Vanterpool,
Deputy Administrator.

[FR Doc. 2024-31495 Filed 1-2-25; 8:45 am]

BILLING CODE 4910-57-P